DEPARTMENT OF HOMELAND SECURITY

Bureau of Customs and Border Protection

19 CFR Parts 4 and 122

[USCBP-2005-0003]

RIN 1651-AA62

Passenger Manifests for Commercial Aircraft Arriving in and Departing From the United States; Passenger and Crew Manifests for Commercial Vessels Departing From the United States

AGENCY: Customs and Border Protection, Department of Homeland Security.

ACTION: Notice of proposed rulemaking; extension of comment period.

SUMMARY: This document provides an additional 60 days for interested persons to submit comments on the proposed rule to amend the Customs and Border Protection Regulations pertaining to the electronic transmission of passenger manifests for commercial aircraft arriving in and departing from the United States and of passenger and crew manifests for commercial vessels departing from the United States. The proposed rule provides air carriers a choice to make manifest transmissions either for each passenger as passengers check in for the flight, up to but no later than 15 minutes prior to departure, or in batch form (a complete manifest containing all passenger data) no later than 60 minutes prior to departure. The proposed rule also provides for vessel carriers transmitting passenger and crew manifests no later than 60 minutes prior to the vessel's departure from the United States. The proposed rule was published in the Federal Register on July 14, 2006, and the comment period was scheduled to expire on August 14, 2006.

DATES: Comments on the proposed rule must be received on or before October 12, 2006.

ADDRESSES: You may submit comments, identified by docket number USCBP-2005-0003, by one of the following methods:

(1) Federal eRulemaking Portal: http://www.regulations.gov. Follow the instructions for submitting comments.

(2) Mail: Comments by mail are to be addressed to the Bureau of Customs and Border Protection, Office of Regulations and Rulings, Border Security Regulations Branch, 1300 Pennsylvania Ave., NW. (Mint Annex), Washington, DC 20229.

(3) Hand delivery/courier: 799 9th Street, NW., Washington, DC 20220.

FOR FURTHER INFORMATION CONTACT: Charles Perez, Program Manager, Office of Field Operations, Bureau of Customs and Border Protection (202-344-2605).

SUPPLEMENTARY INFORMATION:

Public Participation

The Bureau of Customs and Border Protection (CBP) invites interested persons to participate in this rulemaking by submitting written data, views, or arguments on all aspects of the proposed rule. CBP also invites comments that relate to the economic, environmental, or federalism effects that might result from this proposed rule. Comments that will provide the most assistance to CBP in developing these procedures will reference a specific portion of the proposed rule, explain the reason for any recommended change, and include data, information, or authority that support such recommended change.

Instructions: All submissions received must include the agency name and docket number for this rulemaking (USCBP-2005-0003). All comments received will be posted without change to http://www.regulations.gov, including any personal information provided.

Docket: For access to the docket to read background documents or comments received, go to http://www.regulations.gov. Submitted comments may also be inspected at the Bureau of Customs and Border Protection, 799 9th Street, NW., Washington, DC 20220. To inspect comments, please call (202) 572-8768 to arrange for an appointment.

Background

CBP published a document in the Federal Register (71 FR 40035) on July 14, 2006, proposing to amend the CBP Regulations pertaining to the electronic transmission of passenger manifests for commercial aircraft arriving in and departing from the United States and of passenger and crew manifests for commercial vessels departing from the United States. The proposed changes were designed to implement the mandate of the Intelligence Reform and Terrorism Prevention Act of 2004 to require screening of aircraft passengers and vessel passengers and crew traveling to and from the United States against a government established terrorist watch list prior to departure. Thus, the proposed rule provides air carriers a choice to make manifest transmissions either for each passenger as passengers check in for the flight, up to but no later than 15 minutes prior to departure, referred to as APIS Quick Query (AQQ), or in batch form (a complete manifest containing data for all passengers) no later than 60 minutes prior to departure, referred to as APIS 60. The proposed rule also provides for vessel carriers transmitting passenger and crew manifests no later than 60 minutes prior to the vessel's departure from the United States. In addition, the proposed rule proposes to change the definition of “departure” for aircraft to mean the moment the aircraft pushes back from the gate to commence its approach to the point of takeoff (as opposed to the moment the wheels are drawn up into the aircraft just after takeoff).

The document invited the public to comment on the proposal, including the Regulatory Assessment containing an analysis of the expected economic impact of the changes. The Regulatory Assessment is posted on http://www.regulations.gov and on the CBP Web site at http://www.cbp.gov (it is also summarized in the proposed rule). Comments on the proposed rule were requested on or before August 14, 2006.

Extension of Comment Period

In response to the proposed rule published in the Federal Register, CBP has received comments from the Air Transport Association (ATA), the Air Carrier Association of America (ACAA), and the International Air Transport Association (IATA), requesting an extension of the comment period for an additional 60 days. CBP has determined to grant the requests for extension. Accordingly, the period of time for the submission of comments is being extended 60 days. Comments are now due on or before October 12, 2006.

Dated: July 28, 2006.
Deborah J. Spero,
Deputy Commissioner, Customs and Border Protection.

[FR Doc. E6-12473 Filed 8-1-06; 8:45 am]

BILLING CODE 9111-14-P